NATIONAL SCIENCE FOUNDATION

Proposal Review Panel for Computing and Communication Foundations; Notice of Meeting

In accordance with the Federal Advisory Committee Act (Pub. L. 92-463, as amended), the National Science Foundation (NSF) announces the following meeting:

Name and Committee Code: Proposal Review Panel for Computing and Communication Foundations—Expeditions in Computing (EIC) Program (#1192) Site Visit.

Date and Time: October 27, 2017; 8:00 a.m.-6:30 p.m.

Place: Cornell University, Institute for Computational Sustainability/CompSustNet, 340 Gates Hall, Ithaca, NY 14850.

Type of Meeting: Part-Open.

Contact Person: Mitra Basu, National Science Foundation, 4201 Wilson Boulevard, Room 1115, Arlington, VA 22230; Telephone: (703) 292-8910.

Purpose of Meeting: Site visit to assess the progress of the EIC Award: CCF-1522054, “Collaborative Research: CompSustNet: Expanding the Horizons of Computational Sustainability”, and to provide advice and recommendations concerning further NSF support for the project.

Agenda

Friday, Oct 27, 2017; 8:00 a.m.-6:30 p.m.

8:00 a.m. to 1:00 p.m.: OPEN; Presentations by Awardee Institution, faculty staff and students to Site Team and NSF Staff. Discussions and question and answer sessions.

1:30 p.m.-6:30 p.m.: CLOSED; Response and feedback to presentations by Site Team and NSF Staff. Discussions and question and answer sessions. Draft report on education and research activities. Complete written site visit report with preliminary recommendations.

Reason for Closing: The work being reviewed during closed portions of the site review include information of a proprietary or confidential nature, including technical information; financial data, such as salaries; and personal information concerning individuals associated with the project. These matters are exempt under 5 U.S.C. 552b(c), (4) and (6) of the Government in the Sunshine Act.

Dated: August 7, 2017.
Crystal Robinson,
Committee Management Officer.

[FR Doc. 2017-16918 Filed 8-10-17; 8:45 am]

BILLING CODE 7555-01-P